SUSQUEHANNA RIVER BASIN COMMISSION

Notice of Projects Approved for Consumptive Uses of Water

AGENCY: Susquehanna River Basin Commission.

ACTION: Notice of Approved Projects.

SUMMARY: This notice lists the projects approved by rule by the Susquehanna River Basin Commission during the period set forth in DATES.

DATES: April 1, 2010, through April 30, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in and 18 CFR 806.22(f) for the time period specified above:

Approvals By Rule Issued Under 18 CFR 806.22(f):

1. Chesapeake Appalachia, LLC, Pad ID: Potter, ABR-20100401, Terry Township, Bradford County, Pa.; Approval Date: April 1, 2010.

2. Chesapeake Appalachia, LLC, Pad ID: Crawford, ABR-20100402, Terry Township, Bradford County, Pa.; Approval Date: April 1, 2010.

3. Southwestern Energy Production Company, Pad ID: Reeve, ABR-20100403, Herrick Township, Bradford County, Pa.; Approval Date: April 1, 2010.

4. Novus Operating, LLC, Pad ID: Strange, ABR-20100404, Sullivan Township, Tioga County, Pa.; Approval Date: April 2, 2010.

5. Ultra Resources, Inc., Pad ID: 905 Fowler, ABR-20100405, West Branch Township, Potter County, Pa.; Approval Date: April 5, 2010.

6. East Resources, Inc., Pad ID: Halteman 611, ABR-20100406, Delmar Township, Tioga County, Pa.; Approval Date: April 6, 2010.

7. Cabot Oil & Gas Corporation, Pad ID: RoseC P1, ABR-20100407, Dimock Township, Susquehanna County, Pa.; Approval Date: April 6, 2010.

8. Chesapeake Appalachia, LLC, Pad ID: Everbreeze, ABR-20100408, Troy Township, Bradford County, Pa.; Approval Date: April 8, 2010.

9. Chesapeake Appalachia, LLC, Pad ID: Ballibay, ABR-20100409, Herrick Township, Bradford County, Pa.; Approval Date: April 8, 2010.

10. Chesapeake Appalachia, LLC, Pad ID: Balduzzi, ABR-20100410, Wyalusing Township, Bradford County, Pa.; Approval Date: April 8, 2010.

11. Chesapeake Appalachia, LLC, Pad ID: Alton, ABR-20100411, Ulster Township, Bradford County, Pa.; Approval Date: April 8, 2010.

12. Chesapeake Appalachia, LLC, Pad ID: Allford, ABR-20100412, Smithfield Township, Bradford County, Pa.; Approval Date: April 8, 2010.

13. Chesapeake Appalachia, LLC, Pad ID: Frisbee, ABR-20100413, Orwell Township, Bradford County, Pa.; Approval Date: April 8, 2010.

14. Chesapeake Appalachia, LLC, Pad ID: Blannard, ABR-20100414, Standing Stone Township, Bradford County, Pa.; Approval Date: April 8, 2010.

15. East Resources, Inc., Pad ID: Wood 512, ABR-20100415, Rutland Township, Tioga County, Pa.; Approval Date: April 9, 2010.

16. Chief Oil & Gas, LLC, Pad ID: Myers Drilling Pad #1, ABR-20100416, Penn Township, Lycoming County, Pa.; Approval Date: April 12, 2010.

17. XTO Energy Incorporated, Pad ID: Marquardt Unit 8517H, ABR-2010417, Penn Township, Lycoming County, Pa.; Approval Date: April 13, 2010.

18. Chesapeake Appalachia, LLC, Pad ID: Dunham, ABR-20100418, Albany Township, Bradford County, Pa.; Approval Date: April 13, 2010.

19. Chesapeake Appalachia, LLC, Pad ID: Yoder, ABR-20100419, West Burlington Township, Bradford County, Pa.; Approval Date: April 13, 2010.

20. Chesapeake Appalachia, LLC, Pad ID: Brackman, ABR-20100420, Leroy Township, Bradford County, Pa.; Approval Date: April 13, 2010.

21. Chesapeake Appalachia, LLC, Pad ID: Koromlan, ABR-20100421, Auburn Township, Susquehanna County, Pa.; Approval Date: April 13, 2010.

22. Chesapeake Appalachia, LLC, Pad ID: Johnson, ABR-20100422, Monroe Township, Bradford County, Pa.; Approval Date: April 13, 2010.

23. Chesapeake Appalachia, LLC, Pad ID: Henry, ABR-20100423, Albany Township, Bradford County, Pa.; Approval Date: April 13, 2010.

24. Talisman Energy USA, Inc., Pad ID: Ziegler 03 001, ABR-20100424, Columbia Township, Bradford County, Pa.; Approval Date: April 14, 2010.

25. Chief Oil & Gas, LLC, Pad ID: Oliver Drilling Pad #1, ABR-20100425, Springville Township, Susquehanna County, Pa.; Approval Date: April 14, 2010.

26. EOG Resources, Inc., Pad ID: JENKINS 1H, ABR-20100426, Springfield Township, Bradford County, Pa.; Approval Date: April 15, 2010.

27. EOG Resources, Inc., Pad ID: PHC 21V, ABR-20100427, Lawrence Township, Clearfield County, Pa.; Approval Date: April 15, 2010.

28. East Resources, Inc., Pad ID: Lange 447, ABR-20100428, Delmar Township, Tioga County, Pa.; Approval Date: April 15, 2010.

29. East Resources, Inc., Pad ID: Clark 486, ABR-20100429, Sullivan Township, Tioga County, Pa.; Approval Date: April 16, 2010.

30. Talisman Energy USA, Inc., Pad ID: Crank 03 067, ABR-20100430, Columbia Township, Bradford County, Pa.; Approval Date: April 19, 2010.

31. Cabot Oil & Gas Corporation, Pad ID: BlaisureJe P1, ABR-20100431, Dimock Township, Susquehanna County, Pa.; Approval Date: April 19, 2010.

32. Cabot Oil & Gas Corporation, Pad ID: Rayias P1, ABR-20100432, Dimock Township, Susquehanna County, Pa.; Approval Date: April 19, 2010.

33. Novus Operating, LLC, Pad ID: Golden Eagle, ABR-20100433, Covington Township, Tioga County, Pa.; Approval Date: April 21, 2010.

34. Novus Operating, LLC, Pad ID: Chicken Hawk, ABR-20100434, Sullivan Township, Tioga County, Pa.; Approval Date: April 21, 2010.

35. Chesapeake Appalachia, LLC, Pad ID: McGavin, ABR-20100435, Auburn Township, Susquehanna County, Pa.; Approval Date: April 21, 2010.

36. Chesapeake Appalachia, LLC, Pad ID: Nickolyn, ABR-20100436, Auburn Township, Susquehanna County, Pa.; Approval Date: April 21, 2010.

37. Chesapeake Appalachia, LLC, Pad ID: Rexford, ABR-20100437, Orwell Township, Bradford County, Pa.; Approval Date: April 21, 2010.

38. Chesapeake Appalachia, LLC, Pad ID: Amburke, ABR-20100438, Auburn Township, Susquehanna County, Pa.; Approval Date: April 21, 2010.

39. Seneca Resources Corporation, Pad ID: DCNR Tract 100 5H, ABR-20100439, Lewis Township, Lycoming County, Pa.; Approval Date: April 21, 2010, including a partial waiver of 18 CFR § 806.15.

40. Ultra Resources, Inc., Pad ID: State 815, ABR-20100440, Elk Township, Tioga County, Pa.; Approval Date: April 22, 2010, including a partial waiver of 18 CFR § 806.15.

41. Chesapeake Appalachia, LLC, Pad ID: Angie, ABR-20100441, Auburn Township, Susquehanna County, Pa.; Approval Date: April 22, 2010.

42. East Resources, Inc., Pad ID: Vandergrift 290, ABR-20100442, Charleston Township, Tioga County, Pa.; Approval Date: April 23, 2010.

43. East Resources, Inc., Pad ID: Topf 416, ABR-20100443, Delmar Township, Tioga County, Pa.; Approval Date: April 23, 2010.

44. East Resources, Inc., Pad ID: Gee 832, ABR-20100444, Middlebury Township, Tioga County, Pa.; Approval Date: April 26, 2010.

45. Talisman Energy USA, Inc., Pad ID: Storch 03 035, ABR-20100445, Wells Township, Bradford County, Pa.; Approval Date: April 28, 2010.

46. Chesapeake Appalachia, LLC, Pad ID: Holtan, ABR-20100446, Auburn Township, Susquehanna County, Pa.; Approval Date: April 28, 2010.

47. Chesapeake Appalachia, LLC, Pad ID: Polomski, ABR-20100447, Wyalusing Township, Bradford County, Pa.; Approval Date: April 28, 2010.

48. Chesapeake Appalachia, LLC, Pad ID: Way, ABR-20100448, Wyalusing Township, Bradford County, Pa.; Approval Date: April 28, 2010.

49. Chesapeake Appalachia, LLC, Pad ID: Brink, ABR-20100449, Herrick Township, Bradford County, Pa.; Approval Date: April 28, 2010.

50. Chesapeake Appalachia, LLC, Pad ID: Champdale, ABR-20100450, Tuscarora Township, Bradford County, Pa.; Approval Date: April 29, 2010.

51. Chief Oil & Gas, LLC, Pad ID: Warner Drilling Pad #1, ABR-20100451, Franklin Township, Lycoming County, Pa.; Approval Date: April 29, 2010.

52. Chief Oil & Gas, LLC, Pad ID: Emig Drilling Pad #1, ABR-20100452, Cogan House Township, Lycoming County, Pa.; Approval Date: April 29, 2010.

53. Talisman Energy USA, Inc., Pad ID: Ferguson 01 023, ABR-20100453, Granville Township, Bradford County, Pa.; Approval Date: April 30, 2010.

54. Williams Production Appalachia, LLC, Pad ID: Alder Run Land LP #2H, ABR-20100454, Cooper Township, Clearfield County, Pa.; Approval Date: April 30, 2010.

55. Range Resources—Appalachia, LLC, Pad ID: Gray's Run Club Unit #2H, ABR-20100455, Jackson Township, Lycoming County, Pa.; Approval Date: April 30, 2010.

56. Range Resources—Appalachia, LLC, Pad ID: Dog Run Hunting Club Unit, ABR-20100456, Cummings Township, Lycoming County, Pa.; Approval Date: April 30, 2010.

Authority: Public Law 91-575, 84 Stat. 1509 et seq., 18 CFR Parts 806, 807, and 808.

Dated: May 24, 2010.
Stephanie L. Richardson,
Secretary to the Commission.

[FR Doc. 2010-13296 Filed 6-2-10; 8:45 am]

BILLING CODE 7040-01-P